DEPARTMENT OF TRANSPORTATION

Great Lakes St. Lawrence Seaway Development Corporation

33 CFR Part 401

RIN 2135-AA5

Seaway Regulations and Rules: Periodic Update, Various Categories

AGENCY: Great Lakes St. Lawrence Seaway Development Corporation, Department of Transportation (DOT).

ACTION: Final rule.

SUMMARY: The Great Lakes St. Lawrence Seaway Development Corporation (GLS) and the St. Lawrence Seaway Management Corporation (SLSMC) of Canada, under international agreement, jointly publish and presently administer the St. Lawrence Seaway Regulations and Rules (Practices and Procedures in Canada) in their respective jurisdictions. Under agreement with the SLSMC, the GLS is amending the joint regulations by updating the regulations and rules in various categories. These changes are to clarify existing requirements in the regulations.

DATES: This rule is effective on January 10, 2025.

ADDRESSES: Docket: For access to the docket to read background documents or comments received, go to https://www.regulations.gov; or in person at the Docket Management Facility; U.S. Department of Transportation, 1200 New Jersey Avenue SE, West Building Ground Floor, Room W12-140, Washington, DC 20590-001, between 9 a.m. and 5 p.m., Monday through Friday, except Federal holidays.

FOR FURTHER INFORMATION CONTACT: Carrie Mann Lavigne, Chief Counsel, Great Lakes St. Lawrence Seaway Development Corporation, 180 Andrews Street, Massena, New York 13662; (315) 764-3200.

SUPPLEMENTARY INFORMATION: The GLS and SLSMC of Canada, under international agreement, jointly publish and presently administer the St. Lawrence Seaway Regulations and Rules (Practices and Procedures in Canada) in their respective jurisdictions. Under agreement with the SLSMC, the GLS is amending the joint regulations by updating the Regulations and Rules in various categories. The changes update the following sections of the Regulations and Rules: Condition of Vessels, Seaway Navigation, Radio Communications, Dangerous Cargo, Information and Reports, and General. These changes are to clarify existing requirements in the regulations.

Regulatory Notices: Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.regulations.gov.

The joint regulations will become effective in Canada in 2025 prior to the opening of the Seaway. For consistency, because these are joint regulations under international agreement, and to avoid confusion among users of the Seaway, the GLS finds that there is good cause to make the U.S. version of the amendments effective upon the date of publication to ensure an effective date prior to the Seaway opening.

Regulatory Evaluation

This regulation involves a foreign affairs function of the United States and therefore, Executive Order 12866 does not apply and evaluation under the Department of Transportation's Regulatory Policies and Procedures is not required.

Regulatory Flexibility Act Determination

The GLS certifies that this regulation will not have a significant economic impact on a substantial number of small entities. The St. Lawrence Seaway Regulations and Rules primarily relate to commercial users of the Seaway, the vast majority of whom are foreign vessel operators. Therefore, any resulting costs will be borne mostly by foreign vessels.

Environmental Impact

This regulation does not require an environmental impact statement under the National Environmental Policy Act (49 U.S.C. 4321, et seq.) because it is not a major Federal action significantly affecting the quality of the human environment.

Federalism

The Corporation has analyzed this rule under the principles and criteria in Executive Order 13132, dated August 4, 1999, and has determined that this rule does not have sufficient federalism implications to warrant a Federalism Assessment.

Unfunded Mandates

The Corporation has analyzed this rule under title II of the Unfunded Mandates Reform Act of 1995 (Pub. L. 104-4, 109 Stat. 48) and determined that it does not impose unfunded mandates on State, local, and Tribal governments and the private sector requiring a written statement of economic and regulatory alternatives.

Paperwork Reduction Act

This regulation has been analyzed under the Paperwork Reduction Act of 1995 and does not contain new or modified information collection requirements subject to the Office of Management and Budget review.

List of Subjects in 33 CFR Part 401

Hazardous materials transportation, Navigation (water), Penalties, Radio, Reporting and recordkeeping requirements, Vessels, Waterways.

Accordingly, the Great Lakes St. Lawrence Seaway Development Corporation is amending 33 CFR part 401 as follows:

PART 401—SEAWAY REGULATIONS AND RULES

Subpart A—Regulations

1. The authority citation for part 401, subpart A continues to read as follows:

Authority: 33 U.S.C. 983(a) and 984(a)(4), as amended; 49 CFR 1.101, unless otherwise noted.

2. Revise § 401.8 to read as follows:

§ 401.8 Landing booms.

(a) Vessels of more than 50 m in overall length and a freeboard of 2m or more may be equipped with landing booms.

(b) For vessels with landing booms:

(1) Vessel must be equipped with an adequate landing boom on each side;

(2) Landing booms must be in compliance with applicable regulations;

(3) Vessel's crews shall be adequately trained in the use of landing booms for the purpose of landing crew ashore; and

(4) Vessel must have onboard for inspection the following documents:

(i) A copy of the test certificates for each of the landing booms from either a classification society or a third party, dated within 5 years;

(ii) Documents to demonstrate appropriate training; and

(iii) Documented tests and maintenance records of landing boom equipment.

(c) At the U.S. Locks, vessels not equipped with or not using landing booms may be tied up at the approach walls based on Lock personnel availability.

(d) At the Canadian Locks, vessels not equipped with or not using landing booms may be delayed and/or put to anchor until such time that the traffic pattern can accommodate their transit.

3. Amend § 401.9 by:

a. Revising paragraph (c); and

b. Removing the parenthetical authority citation at the end of the section.

The revision reads as follows:

§ 401.9 Radio telephone and navigation equipment.

* * * * *

(c) Gyro compass error greater than 2 degrees must be serviced prior to transiting the Seaway, and if noted during a Seaway transit, must be reported to the nearest Seaway station and serviced at the first opportunity.

5. Amend § 401.10 by:

a. Revising the table following paragraph (d); and

b. Removing the parenthetical authority citation at the end of the section.

The revision reads as follows:

§ 401.10 Mooring lines.

* * * * *

(d) * * *

Table 1 to Paragraph (d)
Overall length of ships | Length of mooring line (m) | Breaking strength (MT)
40 m or more but not more than 60 m | 110 | 10
more than 60 m but not more than 90 m | 110 | 15
more than 90 m but not more than 120 m | 110 | 20
more than 120 m but not more than 180 m | 110 | 28
more than 180 m but not more than 200 m | 110 | 31
more than 200 m but not more than 225.5 m | 110 | 35
Elongation of synthetic lines shall not exceed 20%.

* * * * *

4. Amend § 401.12 by revising the table in paragraph (b) to read as follows:

§ 401.12 Minimum requirements—mooring lines and fairleads.

* * * * *

(b) * * *

Table 1 to Paragraph (b)
Overall length of ships | For mooring lines Nos. 1 and 2 | For mooring lines Nos. 3 and 4
100 m or more but not more than 180 m | Shall be at a location on the ship side where the beam is at least 90% of the full beam of the ship | Shall be at a location on the ship side where the beam is at least 90% of the full beam of the ship.
more than 180 m but not more than 225.5m | Between 20 m & 50 m from the stern | Between 20 m & 50 m from the stern.

5. Amend § 401.13 by revising paragraph (b) to read as follows:

§ 401.13 Hand lines.

* * * * *

(b) Be of uniform thickness and have a diameter of not less than 12mm and not more than 18 mm and a minimum length of 30m; and

* * * * *

6. Amend § 401.14 by revising the section heading and paragraph (a) to read as follows:

§ 401.14 Anchors, anchor marking buoys.

(a) Every vessel shall have their anchors cleared and have the anchor marking buoys free to deploy (weak link to hold buoy line onboard) with the buoy lines firmly secured to each anchor, and ready to be released prior to entering the Seaway.

* * * * *

7. Amend § 401.17 by:

a. Revising paragraph (b); and

b. Removing the parenthetical authority citation at the end of the section.

The revision reads as follows:

§ 401.17 Pitch indicators and alarms.

* * * * *

(b) Visible and audible pitch alarms, with a time delay of not greater than 8 seconds, in the wheelhouse and engine room to indicate wrong way pitch.

8. Amend § 401.19 by:

a. Revising paragraph (d); and

b. Removing the parenthetical authority citation at the end of the section.

The revision reads as follows:

§ 401.19 Disposal and discharge systems.

* * * * *

(d) Burning of shipboard garbage is prohibited between call in point 2 (CIP 2) and Cape Vincent, and between CIP 15 and 16.

9. Amend § 401.29 by revising paragraph (c) to read as follows:

§ 401.29 Maximum draft.

* * * * *

(c) Any vessel will be permitted to load at an increased draught of not more than 7 cm above the maximum permissible draught in effect as prescribed under paragraph (b) of this section if it is equipped with a Draught Information System (DIS) and meets the following:

(1) An operational Draught Information System (DIS) approved by a member of the International Association of Classification Societies (IACS) as compliant with the Implementation Specifications found at www.greatlakes-seaway.com and having onboard:

(i) An operational AIS with accuracy approved by the Seaway; and

(ii) Up-to-date electronic charts; and

(iii) Up-to-date charts containing high resolution bathymetric data; and

(iv) Vessels must be equipped with a bow thruster and bow thruster must be operational.

(2) The DIS Tool Display shall be located as close to the primary conning position and be visible and legible.

(i) Verification document of the DIS must be kept on board the vessel at all times and made available for inspection;

(ii) DIS license to use the software must be valid;

(iii) Software version of DIS matches the version in the IACS verification letter, or higher;

(iv) A company letter attesting to officer training on use of the DIS must be kept on board and made available for inspection; and

(v) When transiting Seaway waters with the DIS, a trained officer on the use of the DIS must be on the bridge.

(3) Any vessel not yet approved, but intending to use the DIS in the Seaway must notify the Manager or the Corporation at least 96 hours in advance so that arrangements can be made for appropriate testing for approval to use the DIS to transit the Seaway.

(4) A vessel already approved to use the DIS to transit the Seaway must email a completed DIS Confirmation Checklist (found at www.greatlakes-seaway.com) to slsmcmarineservices@seaway.ca 96 hours prior to its initial transit of the navigation season.

(5) If for any reason the DIS, AIS, or bow thruster becomes inoperable, malfunctions, or is not used while the vessel is transiting at a draught greater than the maximum permissible draught prescribed under paragraph (b) of this section in effect at the time, the vessel must notify the Manager or the Corporation immediately.

10. Amend § 401.31 by:

a. Revising paragraph (b); and

b. Removing the parenthetical authority citation at the end of the section.

The revision reads as follows:

§ 401.31 Meeting and passing.

* * * * *

(b) No vessel shall meet another vessel within the area between the caution signs at bridges or within any area that is designated as a no meeting area by the Manager or the Corporation.

* * * * *

11. Amend § 401.35 by revising paragraph (b) to read as follows:

§ 401.35 Navigation underway.

* * * * *

(b) Operate the propulsion machinery so that it can respond immediately though its full operating range;

(1) Vessels equipped with an Engine Power Limitation system (EPL) or Shaft Power Limitation system (ShaPoLi) shall override the EPL or ShaPoLi while transiting at the Seaway.

(2) [Reserved]

* * * * *

12. Revise § 401.39-1 to read as follows:

§ 401.39-1 Raising fenders.

Every vessel equipped with fenders that are not permanently attached shall raise its fenders when passing a lock gate or HFM equipment.

13. Amend § 401.42 by:

a. Adding paragraphs (a)(1)(i) and (ii);

b. Revising paragraph (a)(2); and

c. Removing the parenthetical authority citation at the end of the section.

The additions and revision read as follows:

§ 401.42 Passing hand lines.

(a) * * *

(1) * * *

(i) For the #4 mooring wire, the hand line shall be passed to the linehandlers at the lock as soon as the vessel's aft fairleads pass the open gates.

(ii) For the #2 mooring wire, the hand line shall be passed to the linehandlers at the lock as soon as the forward fairleads pass the last HFM unit.

(2) Hand lines shall be passed to upbound vessels by the linehandlers as soon as the vessel passes the last HFM unit, and secured, by means of a clove hitch, to the mooring lines 60 cm behind the splice of the eye;

* * * * *

14. Amend § 401.44 by:

a. Redesignating paragraph (c) as paragraph (d);

b. Adding a new paragraph (c); and

c. Removing newly redesignated paragraph (d)(4).

The addition reads as follows:

§ 401.44 Mooring in locks.

* * * * *

(c) Vessels being moored by the Hands-Free Mooring system (HFM) or passing through a lock without the use of mooring lines shall have a minimum of one (1) well rested crew member on deck during the lockage to assist the bridge team.

* * * * *

15. Revise § 401.58 to read as follows:

§ 401.58 Pleasure craft scheduling.

(a) At the U.S. locks, the transit of pleasure craft shall be scheduled by the traffic controller or the officer in charge of a lock and may be delayed in order to avoid interference with other vessels; and

(b) Every pleasure craft seeking to transit Canadian locks shall first make a reservation on the Seaway website according to the available schedule.

16. Amend § 401.65 by:

a. Revising paragraphs (b) and (c); and

b. Removing the parenthetical authority citation at the end of the section.

The revisions read as follows:

§ 401.65 Communication—ports, docks and anchorages.

* * * * *

(b) Every vessel arriving at a port, dock, or anchorage shall report to the appropriate Seaway station, giving an estimated time of departure if possible.

(c) At least four hours prior to departure from a port, dock, or anchorage, every vessel shall report to the appropriate Seaway station its destination and its expected time of arrival at the next check point.

* * * * *

17. Amend § 401.67 by revising the section heading to read as follows:

§ 401.67 Carrying explosives.

* * * * *

18. Amend § 401.73 by revising paragraph (b) to read as follows:

§ 401.73 Cleaning tanks—hazardous cargo vessels.

* * * * *

(b) Hot work permission. Before any hot work, defined as any work that uses flame or that can produce a source of ignition, cutting or welding, is carried out by any vessel on any designated St. Lawrence Seaway Management Corporation (SLSMC) approach walls, Cote St. Catherine wharf or wharves in the Welland Canal, a written request must be sent to the SLSMC, preferably 24 hours prior to the vessel's arrival on the SLSMC approach walls or wharves. The hot work shall not commence until approval is obtained from an SLSMC Traffic Control Center.

(1) Permission is granted under the following conditions:

(i) Copy of vessel's “Hot Work Permit” is provided to the SLSMC before welding commences;

(A) In the Welland Canal, send to: nerie@seaway.ca and nrshipinspectors@seaway.ca.

(B) In the MLO Section, send to: cdo@seaway.ca and inspecteursvm@seaway.ca.

(ii) Name of company performing the hot work is provided;

(iii) Effective fire watch is maintained;

(iv) Welding operations shall temporarily cease during vessel meets and lockages;

(v) Welding operations shall cease at the direction of a Traffic Controller; and

(vi) All sparks and/or flames are to be contained on the vessel.

(2) [Reserved]

* * * * *

19. Amend § 401.84 by:

a. Adding a semicolon at the end of paragraph (c);

b. Revising paragraph (d); and

c. Removing the parenthetical authority citation at the end of the section.

The revision reads as follows:

§ 401.84 Reporting of impairment or other hazard by vessels transiting within the Seaway.

* * * * *

(d) Any modification or malfunction on the vessel of equipment and machinery that is noted as operational in the current “Enhanced Ship Inspection” or “Self-Inspection” of the vessel;

* * * * *

20. Revise § 401.94 to read as follows:

§ 401.94 Keeping copies of documents.

(a) A paper copy of the vessel's valid Ship Inspection Report shall be kept on board every vessel in transit. It must be easily accessible in the wheelhouse.

(b) A paper or electronic copy of this subpart (the “Rules and Regulations”) and the Seaway Notices for the current navigation year shall be kept easily accessible in the wheelhouse of every vessel in transit.

(c) Onboard every vessel transiting the Seaway, a duplicate set of the vessel's Fire Control Plans shall be permanently stored in a prominently marked weather-tight enclosure outside the deckhouse for the assistance of shore side fire-fighting personnel.

Issued at Washington, DC, under authority delegated at 49 CFR 1.101.
Great Lakes St. Lawrence Seaway Development Corporation.
Carrie Lavigne,
Chief Counsel.

[FR Doc. 2024-31566 Filed 1-8-25; 8:45 am]

BILLING CODE 4910-61-P